LEGAL SERVICES CORPORATION

Sunshine Act Meetings

TIME AND DATE: The Institutional Advancement and Communications Subcommittee, Delivery of Legal Services, Operations and Regulations, and Governance and Performance Review Committees of the Legal Services Corporation (LSC) Board of Directors will meet virtually on January 15, January 22, and January 23, 2026, respectively. The Institutional Advancement Committee and Communications Subcommittee meeting will begin on January 15 at 1:00 p.m. Eastern Time. The Delivery of Legal Services Committee meeting will follow at 2:00 p.m. Eastern Time, with both meetings continuing until the conclusion of the Committees' agendas. The Operations and Regulations Committee will begin on January 22 at 11:30 a.m. Eastern Time and continue until the conclusion of the Committee's agenda. The Governance and Performance Review Committee will begin on January 23 at 1:00 p.m. Eastern Time and continue until the conclusion of the Committee's agenda.

PLACE: Public Notice of Virtual Meeting. LSC will conduct the January 15, January 22, and January 23, 2026, meetings via videoconference. Unless otherwise noted herein, the meetings will be open to public observation via LSC's YouTube channel: https://www.youtube.com/@LegalServicesCorp/streams.

STATUS: Parts of the Institutional Advancement Committee and Communications Subcommittee meeting will be open to the public. The rest of the meeting will be closed to the public. The Delivery of Legal Services, Operations and Regulations, and Governance and Performance Review Committees meetings will be open to the public.

MATTERS TO BE CONSIDERED: The agendas for the respective committee meetings are as follows:

PORTIONS OPEN TO THE PUBLIC:

1. Institutional Advancement Committee and Communications Subcommittee: Matters to be discussed include a briefing by the Friends of Legal Services Corporation; a Chairman's Report and update on the Leaders Council and Emerging Leaders Council; discussion of the results of the Committee's and Subcommittee's self-evaluation for 2025; a development update and privately funded project highlights; and a strategic communications and social media update.

2. Delivery of Legal Services Committee: Matters to be discussed include an update on revisions to LSC's Performance Criteria ; a presentation on the Case Service Reporting Handbook and Grant Recipient Reporting to LSC on Extended versus Limited Cases; comments from the Client Leadership Council; and discussion of the results of the Committee's self-evaluation for 2025.

3. Operations and Regulations Committee: Matters to be discussed include discussion of the results of the Committee's self-evaluation for 2025; Management's Report on Implementation of LSC's Strategic Plan in 2025 and considering and acting on Justification Memorandum for Parts 1630—Cost Standards and Procedures and 1631—Purchasing and Property Management.

4. Governance and Performance Review Committee: Matters to be discussed include a report on the annual Board and Committee self-evaluation process; discussion of the results of the Committee's self-evaluation for 2025; a report on U.S. Department of Justice's Access to Justice Office, White House Legal Aid Interagency Roundtable (LAIR) and Elder Justice Coordinating Committee; discussion of LSC President's annual self-evaluation; and feedback on Inspector General's 2025 activities.

PORTIONS CLOSED TO THE PUBLIC:

1. Institutional Advancement Committee and Communications Subcommittee: Matters to be discussed include private donor solicitation and considering and acting on the approval of invitees to the Leaders Council and Emerging Leaders Council.

CONTACT PERSON FOR MORE INFORMATION: Jessica Wechter, Special Assistant to the President, at (202) 295-1500. Questions may also be sent by electronic mail to the Office of the Corporate Secretary at updates@lsc.gov.

Non-Confidential Meeting Materials: Non-confidential meeting materials will be made available in electronic format at least 24 hours in advance of the meeting on the LSC website, at https://www.lsc.gov/about-lsc/board-meeting-materials.

(Authority: 5 U.S.C. 552b.)

Dated: January 6, 2026.
Stefanie Davis,
Deputy General Counsel, Legal Services Corporation.

[FR Doc. 2026-00233 Filed 1-7-26; 11:15 am]

BILLING CODE 7050-01-P